DEPARTMENT OF ENERGY

Federal Energy Regulatory Commission

[Docket No. EL02-65-004, et al.]

Alliance Companies, et al.; Electric Rate and Corporate Regulation Filings

June 6, 2002.

The following filings have been made with the Commission. The filings are listed in ascending order within each docket classification.

1. Alliance Companies National Grid USA

[Docket No. EL02-65-004]

Take notice that on May 28, 2002, FirstEnergy Corp. on behalf of its wholly-owned transmission subsidiary, American Transmission Systems, Incorporated (ATSI) tendered for filing with the Federal Energy Regulatory Commission (Commission) a compliance filing pursuant to the Commission's April 25, 2002 Order on Petition for Declaratory Order.

Comment Date: June 18, 2002.

2. Avista Corporation

[Docket No. ER02-1951-000]

Take notice that on May 31, 2002, Avista Corporation (Avista) tendered for filing with the Federal Energy Regulatory Commission (Commission) pursuant to 18 CFR 35.13 a proposed revision to its FERC Rate Schedule No. 105, Avista's currently effective rate schedule for General Transfer Service for the Bonneville Power Administration and Bonneville customers. The revisions to the rate schedule consist of changes to data in exhibits to the GTA to reflect changes in transmission facilities and Bonneville customers and to comply with FERC Order No. 614. Avista requests that the Commission accept the changes effective August 1, 2002.

Copies of the filing were served upon Bonneville Power Administration, the counterparty to the Agreement.

Comment Date: June 21, 2002.

3. Southern California Edison Company

[Docket No. ER02-1952-000]

Take notice that on May 31, 2002, Southern California Edison Company (SCE) tendered for filing an unexecuted Service Agreement For Wholesale Distribution Service under SCE's Wholesale Distribution Access Tariff, an unexecuted Interconnection Facilities Agreement, and an unexecuted Reliability Management System Agreement (Agreements) between SCE and Berry Petroleum Company (BPC). SCE respectfully requests the Agreements become effective on June 1, 2002.

These Agreements specify the terms and conditions under which SCE will interconnect BPC's Newhall Phase II Project to its electrical system and provide Distribution Service for up to 19.8 MW of power produced by the project.

Copies of this filing were served upon the Public Utilities Commission of the State of California and BPC.

Comment Date: June 21, 2002.

4. Gilroy Energy Center, LLC King City Energy Center, LLC

[Docket No. ER02-1953-000]

Take notice that on May 31, 2002, Gilroy Energy Center, LLC and King City Energy Center, LLC each filed an executed power marketing agreement under which they will make wholesale sales of capacity and electric energy to Calpine Energy Services, L.P. at market-based rates.

Comment Date: June 21, 2002.

5. Cinergy Services, Inc.

[Docket No. ER02-1954-000]

Take notice that on May 31, 2002, Cinergy Services, Inc. (Cinergy) and TransCanada Energy Limited requested a cancellation of Service Agreement No.117, under Cinergy Operating Companies, FERC Electric Market-Based Power Sales Tariff, FERC Electric Tariff Original Volume No.7.

Cinergy requests an effective date of May 31, 2002.

Comment Date: June 21, 2002.

6. Cinergy Services, Inc.

[Docket No. ER02-1955-000]

Take notice that on May 31, 2002, Cinergy Services, Inc. (Cinergy) and TransCanada Energy Limited Company requested a cancellation of Service Agreement No 139, under Cinergy Operating Companies, FERC Electric Resale of Transmission Rights and Ancillary Service Rights, FERC Electric Tariff Original Volume No. 8.

Cinergy requests an effective date of May 31, 2002.

Comment Date: June 21, 2002.

7. Cinergy Services, Inc.

[Docket No. ER02-1956-000]

Take notice that on May 31, 2002, Cinergy Services, Inc. (Cinergy) and TransCanada Energy Limited requested a cancellation of Service Agreement No.117, under Cinergy Operating Companies, FERC Electric Cost-Based Power Sales Tariff, FERC Electric Tariff Original Volume No.6.

Cinergy requests an effective date of May 31, 2002.

Comment Date: June 21, 2002.

8. Ameren Services Company

[Docket No. ER02-1957-000]

Take notice that on May 31, 2002, Ameren Services Company (ASC) tendered for filing an unexecuted Firm Point-to-Point Service Agreement between ASC and Aquila Energy Marketing Corp. ASC asserts that the purpose of the Agreement is to permit ASC to provide transmission service to the Aquila Energy Marketing Corp. pursuant to Ameren's Open Access Transmission Tariff.

Comment Date: June 21, 2002.

9. New England Power Pool

[Docket No. ER02-1958-000]

Take notice that on May 31, 2002, the New England Power Pool (NEPOOL) Participants Committee submitted the Eighty-Sixth Agreement Amending New England Power Pool Agreement (Eighty-Sixth Agreement), which amends the present formula for calculating Participants' Installed Capability (ICAP) Responsibilities concerning the treatment of Interruptible and Dispatchable Loads as contained in Section 12.2(a)(1) of the Restated NEPOOL Agreement. Expedited consideration and a waiver of the sixty-day notice requirement and a July 1, 2002 effective date has been requested.

The NEPOOL Participants Committee states that copies of these materials were sent to the NEPOOL Participants, Non-Participant Transmission Customers and the New England state governors and regulatory commissions.

Comment Date: June 21, 2002.

10. CPN Bethpage 3rd Turbine Inc.

[Docket No. ER02-1959-000]

Take notice that on May 31, 2002, CPN Bethpage 3rd Turbine Inc. (CPN Bethpage) tendered for filing, under section'205 of the Federal Power Act, a request for authorization to make wholesale sales of electric energy, capacity and ancillary services at market-based rates, to reassign transmission capacity, and to resell firm transmission rights. CPN Bethpage proposes to own and operate a 45 megawatt simple cycle natural gas-fired combustion turbine generating facility located in Hicksville, New York.

Comment Date: June 21, 2002.

11. Dominion Energy Marketing, Inc.

[Docket No. ER02-1960-000]

Take notice that on May 31, 2002, Dominion Energy Marketing, Inc. (the Company) respectfully tendered for filing the following:

Service Agreement by Dominion Energy Marketing, Inc. to Exelon Generation Company, LLC designated as Service Agreement No 2 under the Company's Market-Based Sales Tariff, FERC Electric Tariff, Original Volume No. 1, effective on December 15, 2000. The Company respectfully requests a waiver of the Commission's regulations to permit an effective date of May 1, 2002, as requested by the customer.

Copies of the filing were served upon the Exelon Generation Company, LLC, the Virginia State Corporation Commission, and the North Carolina Utilities Commission.

Comment Date: June 21, 2002.

12. New York Independent System Operator, Inc.

[Docket No. ER02-1961-000]

Take notice that on May 31, 2002 the New York Independent System Operator, Inc. (NYISO) filed revisions to its Open-Access Transmission Tariff (OATT) and Market Administration and Control Area Services (Services Tariff) to implement a new cost allocation methodology under Rate Schedule 1 of each tariff. The NYISO has requested an effective date of June 1, 2002 for the filing.

The NYISO has served a copy of this filing upon all parties that have executed service agreements under the NYISO's OATT and Services Tariff and on the electric utility regulatory agencies of New York, New Jersey and Pennsylvania.

Comment Date: June 21, 2002.

13. Commonwealth Edison Company

[Docket No. ER02-1962-000]

Take notice that on May 31, 2002, Commonwealth Edison Company (ComEd) submitted for filing an unexecuted Network Service and Network Operating Agreement between ComEd and the City of Batavia, Illinois (Batavia), an unexecuted Network Service and Network Operating Agreement between ComEd and the City of St. Charles, Illinois (St. Charles) and an unexecuted agreement for Dynamic Scheduling of Transmission Service (Scheduling Agreement) between ComEd and Exelon Generation Company, LLC (EXGN) under ComEd's FERC Electric Tariff, Second Revised Volume No. 5.

ComEd seeks an effective date of June 1, 2002 for the Agreements with Batavia, St. Charles and EXGN and, accordingly, seeks waiver of the Commission's notice requirements. ComEd states that a copy of this filing has been served on Batavia, St. Charles, EXGN and the Illinois Commerce Commission.

Comment Date: June 21, 2002.

14. Midwest Independent Transmission System Operator, Inc.

[Docket No. ER02-1963-000]

Take notice that on May 31, 2002, the Midwest Independent Transmission System Operator, Inc. (Midwest ISO) submitted for filing certain limited changes to the formula rate template of Attachment O of the Midwest ISO's Open Access Transmission Tariff (OATT) to accommodate the unique circumstances presented with respect to establishing Attachment O rates for International Transmission Company (International Transmission).

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: June 21, 2002.

15. Midwest Independent Transmission System Operator, Inc.

[Docket No. ER02-1964-000]

Take notice that on May 31, 2002, the Midwest Independent Transmission System Operator, Inc. (Midwest ISO) submitted for filing Notices of Succession of certain Transmission Service Agreements and Network Transmission Service and Operating Agreements entered into by and between (I) Michigan Electric Transmission Company (METC) or Michigan Electric Transmission Company, LLC (Michigan Transco LLC) and various transmission customers and (ii) International Transmission Company (International Transmission) and its corporate parent, DTE Energy Company (DTE Energy) and various transmission customers.

The subject Notices of Succession are intended to transfer only the provisions and obligations of Transmission Service from Michigan Transco LLC and International Transmission to the Midwest ISO and are not intended to affect Michigan Transco LLC's or International Transmission's contractual obligations to provide certain ancillary services or contractual right to receive revenues from Transmission Customers for such ancillary services. Any revenues collected or otherwise received by the Midwest ISO for Transmission Service under the transferred Transmission Service Agreements and Network Transmission Service and Operating Agreements will be received by the Midwest ISO solely as agent for Michigan Transco LLC and International Transmission, will be held by the Midwest ISO as custodial trustee for Michigan Transco LLC and International Transmission, and will be passed through to Michigan Transco LLC and International Transmission in accordance with Appendix C of the Midwest ISO Agreement.

The Midwest ISO has served copies of its filing on all affected customers. In addition, the Midwest ISO has electronically served a copy of this filing, without attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: June 21, 2002.

16. Midwest Independent Transmission System Operator, Inc.

[Docket No. ER02-1965-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Bay City Electric Light & Power.

A copy of this filing was sent to Bay City Electric Light & Power.

Comment Date: June 21, 2002.

17. Midwest Independent Transmission System Operator, Inc.

[Docket No. ER02-1966-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by the Village of Chelsea.

A copy of this filing was sent to the Village of Chelsea.

Comment Date: June 21, 2002.

18. Midwest Independent Transmission System Operator, Inc.

[Docket No. ER02-1967-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Detroit Edison Merchant Operations.

A copy of this filing was sent to Detroit Edison Merchant Operations.

Comment Date: June 21, 2002.

19. Midwest Independent Transmission System Operator, Inc.

[Docket No. ER02-1968-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Duke Power.

A copy of this filing was sent to Duke Power.

Comment Date: June 21, 2002.

20. Midwest Independent Transmission System Operator, Inc.

[Docket No. ER02-1969-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by City of Eaton Rapids.

A copy of this filing was sent to City of Eaton Rapids.

Comment Date: June 21, 2002.

21. Midwest Independent Transmission System Operator, Inc.

[Docket No. ER02-1970-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by EnergyUSA-TPC Corp.

A copy of this filing was sent to EnergyUSA-TPC Corp.

Comment Date: June 21, 2002.

22. Midwest Independent Transmission System Operator, Inc.

[Docket No. ER02-1971-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Florida Power & Light Company.

A copy of this filing was sent to Florida Power & Light Company.

Comment Date: June 21, 2002.

23. Midwest Independent Transmission System Operator, Inc.

[Docket No. ER02-1972-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by City of Hart.

A copy of this filing was sent to City of Hart.

Comment Date: June 21, 2002.

24. Midwest Independent Transmission System Operator, Inc.

[Docket No. ER02-1973-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by the City of Holland/Holland Board of Public Works.

A copy of this filing was sent to the City of Holland/Holland Board of Public Works.

Comment Date: June 21, 2002.

25. Midwest Independent Transmission System Operator, Inc.

[Docket No. ER02-1974-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Michigan Public Power Agency.

A copy of this filing was sent to Michigan Public Power Agency.

Comment Date: June 21, 2002.

26. Midwest Independent Transmission System Operator, Inc.

[Docket No. ER02-1975-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Michigan South Central Power Agency.

A copy of this filing was sent to Michigan South Central Power Agency.

Comment Date: June 21, 2002.

27. Midwest Independent Transmission System Operator, Inc.

[Docket No. ER02-1976-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Midland Cogeneration Venture Limited Partnership.

A copy of this filing was sent to Midland Cogeneration Venture Limited Partnership.

Comment Date: June 21, 2002.

28. Midwest Independent Transmission System Operator, Inc.

[Docket No. ER02-1977-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Midwest Energy Cooperative.

A copy of this filing was sent to Midwest Energy Cooperative.

Comment Date: June 21, 2002.

29. Midwest Independent Transmission System Operator, Inc.

[Docket No. ER02-1978-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by the City of Portland.

A copy of this filing was sent to the City of Portland.

Comment Date: June 21, 2002.

30. Midwest Independent Transmission System Operator, Inc.

[Docket No. ER02-1979-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Quest Energy, LLC.

A copy of this filing was sent to Quest Energy, LLC..

Comment Date: June 21, 2002.

31. Midwest Independent Transmission System Operator, Inc.

[Docket No. ER02-1980-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Sebewaing Light & Water Department.

A copy of this filing was sent to Sebewaing Light & Water Department.

Comment Date: June 21, 2002.

32. Midwest Independent Transmission System Operator, Inc.

[Docket No. ER02-1981-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by the City of St. Louis.

A copy of this filing was sent to the City of St. Louis.

Comment Date: June 21, 2002.

33. Midwest Independent Transmission System Operator, Inc.

[Docket No. ER02-1982-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Thumb Electric Cooperative.

A copy of this filing was sent to Thumb Electric Cooperative.

Comment Date: June 21, 2002.

34. Midwest Independent Transmission System Operator, Inc.

[Docket No. ER02-1983-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Energy International Power Marketing.

A copy of this filing was sent to Energy International Power Marketing.

Comment Date: June 21, 2002.

35. Midwest Independent Transmission System Operator, Inc.

[Docket No. ER02-1984-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Commonwealth Edison.

A copy of this filing was sent to Commonwealth Edison.

Comment Date: June 21, 2002.

36. Midwest Independent Transmission System Operator, Inc.

[Docket No. ER02-1985-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by the City of Croswell.

A copy of this filing was sent to the City of Croswell.

Comment Date: June 21, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-14908 Filed 6-12-02; 8:45 am]

BILLING CODE 6717-01-P